DEPARTMENT OF THE INTERIOR

Bureau of Land Management

[OR-035-1430-ES; GP01-0259; OR-55163]

Notice of Realty Action; Recreation and Public Purposes (R&PP) Act Classification; Oregon

AGENCY: Bureau of Land Management.

ACTION: Notice.

SUMMARY: The public land, described below, in Morrow County, Oregon, has been examined and found suitable for classification for lease or conveyance to the City of Irrigon under the provisions of the Recreation and Public Purposes Act, as amended (43 U.S.C. 869 et seq.). The City of Irrigon proposes to use the land for a wastewater treatment and disposal plant.

Willamette Meridian

T. 5 N., R. 27 E.,

Sec. 20, that portion of NW¼SW¼ lying south of the southerly right-of-way line of Highway 730, excepting from said parcel approximately 5 acres in the northwest portion.

The above described land contains 14.05 acres, more or less. The exact acreage will be determined by survey.

The 5 acres of land referenced above were examined and found to be unsuitable for classification for lease or conveyance under the Recreation and Public Purposes Act. This land was included in the City of Irrigon's R&PP application, filed May 14, 1999. The unsuitability determination is based on the discovery of historic resources determined to meet eligibility criteria for the National Register of Historic Places.

ADDRESSES: Bureau of Land Management, Baker Field Office, 3165 10th Street, Baker City, Oregon 97814.

SUPPLEMENTARY INFORMATION: The land is not needed for Federal purposes. Lease or conveyance is consistent with current Bureau of Land Management (BLM) land use planning and would be in the public interest. The lease/patent, when issued, will be subject to the following terms, conditions and reservations:

1. Provisions of the Recreation and Public Purposes Act and to all applicable regulations of the Secretary of the Interior.

2. A right-of-way for ditches and canals constructed by the authority of the United States.

3. All minerals shall be reserved to the United States, together with the right to prospect for, mine, and remove the minerals.

4. Those rights for telephone line purposes granted to Qwest Corporation by right-of-way ORE 01094.

5. Those rights for electric power line purposes granted to Umatilla Electric Cooperative Association by right-of-way OR 44472.

6. Those rights for county road purposes granted to Morrow County Public Works by right-of-way OR 54274.

7. A covenant referencing a Memorandum of Agreement (MOA) entered into by the City of Irrigon, BLM, and the State Historic Preservation Office and potentially other affected interests. The purpose of the MOA would be to implement agreed upon mitigation measures for compliance with the National Historic Preservation Act and to protect historic resources on and adjacent to the property conveyed to the City of Irrigon.

8. Any other valid rights-of-way that may exist at the time of lease or conveyance.

The subject land had previously been segregated from appropriation under the public land laws and mineral laws as a part of the Northeast Oregon Assembled Land Exchange (NOALE)(OR 51858), pursuant to the Oregon Land Exchange Act of 2000, Pub. L. 106-257 and Sec. 206 of the Act of October 21, 1976 (43 U.S.C. 1716), as amended. A decision, based on Environmental Assessment OR-035-99-05, has determined that lease or conveyance of the parcel to the City of Irrigon under provisions of the Recreation and Public Purposes Act better serves the public interest than disposing of it through a land exchange. The segregative effect on the subject land automatically terminated by operation of the law on May 23, 2001.

Upon publication of this notice in the Federal Register, the land will be segregated from all other forms of appropriation under the public land laws, including the general mining laws, except for lease or conveyance under the Recreation and Public Purposes Act, and leasing under the mineral leasing laws.

For a period of 45 days from the date of publication of this notice in the Federal Register, interested persons may submit comments regarding the proposed lease/conveyance or classification of the land to the Field Manager, Baker Field Office, 3165 10th Street, Baker City, OR 97814.

Classification Comments: Interested parties may submit comments involving the suitability of the land for a wastewater treatment and disposal plant. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a wastewater treatment and disposal plant.

Any adverse comments will be reviewed by the State Director. In the absence of any adverse comments, the classification will become effective 60 days from the date of publication of this notice in the Federal Register.

Sandra L. Guches,
Acting District Manager.

[FR Doc. 01-20172 Filed 8-10-01; 8:45 am]

BILLING CODE 4310-33-P